DEPARTMENT OF AGRICULTURE

Forest Service

Dixie Resource Advisory Committee

AGENCY: Forest Service, USDA.

ACTION: Notice of meetings.

SUMMARY: The Dixie Resource Advisory Committee will meet in Panguitch, Utah and Santa Clara, Utah. The committee is meeting as authorized under the Secure Rural Schools and Community Self-Determination Act (Pub. L. 110-343) and in compliance with the Federal Advisory Committee Act. The purpose of the two meetings are to discuss Title II project proposals.

DATES: December 7, 2010, 9 a.m. & January 6, 2011, 9 a.m.

ADDRESSES: December 7, 2010 meeting will be held at Garfield County Courthouse, 55 South Main Street, Panguitch, Utah. January 6, 2011 meeting will be held at the Santa Clara Town Hall, 2721 Santa Clara Drive, Santa Clara, Utah. The public is invited to attend both meetings.

FOR FURTHER INFORMATION CONTACT: Kenton Call, RAC Coordinator, Dixie National Forest, (435) 865-3730; e-mail: ckcall@fs.fed.us.

Individuals who use telecommunication devices for the deaf (TDD) may call the Federal Information Relay Service (FIRS) at 1-800-877-8339 between 8 a.m. and 8 p.m., Eastern Standard Time, Monday through Friday.

SUPPLEMENTARY INFORMATION: The meetings are open to the public. The following business will be conducted: (1) Welcome and committee introductions; (2) Review of project proposals; (3) Category discussion of proposals; (4) RAC discussion and decision on proposals, and (5) Public comment on any propopals. Persons who wish to bring related matters to the attention of the Committee may file written statements with the Committee staff before or after the meeting. Public input will be accepted by the RAC during the meetings.

Dated: November 11, 2010.
Robert G. MacWhorter,
Forest Supervisor.

[FR Doc. 2010-30008 Filed 12-2-10; 8:45 am]

BILLING CODE 3410-11-P